DEPARTMENT OF AGRICULTURE

Forest Service

Notice of Resource Advisory Committee Meeting

AGENCY: Lassen Resource Advisory Committee, Susanville, California, USDA Forest Service.

ACTION: Notice of meeting.

SUMMARY: Pursuant to the authorities in the Federal Advisory Committees Act (Public Law 92-463) and under the Secure Rural Schools and Community Self-Determination Act of 2000 (Public Law 106-393) the Lassen National Forest's Lassen County Resource Advisory Committee will meet Thursday, October 17, 2002, in Susanville, California for a business meeting. The meetings are open to the public.

SUPPLEMENTARY INFORMATION: The business meeting October 17th begins at 9 a.m., at the Lassen National Forest Headquarters Office, Caribou Conference Room, 2550 Riverside Drive, Susanville, CA 96130. Agenda topics will include: Review of previous meeting minutes; RAC member reports; presentation of other County RAC processes to solicit and evaluate projects; develop Lassen County RAC project submittal process; round table discussion to discuss ideas on potential projects; set agenda for next meeting. Time will also be set aside for public comments at the end of the meeting.

FOR FURTHER INFORMATION CONTACT: Robert Andrews, Eagle Lake District Ranger and Designated Federal Officer, at (530) 257-4188; or Assistant Public Affairs Officer, Leona Rodreick, at (530) 257-2151.

Elizabeth Norton,
Acting Forest Supervisor.

[FR Doc. 02-23800 Filed 9-18-02; 8:45 am]

BILLING CODE 3410-11-M